DEPARTMENT OF HOMELAND SECURITY

Federal Emergency Management Agency

44 CFR Part 64

[Docket No. FEMA-7776]

List of Communities Eligible for the Sale of Flood Insurance

AGENCY: Federal Emergency Management Agency, Emergency Preparedness and Response Directorate, Department of Homeland Security.

ACTION: Final rule.

SUMMARY: This rule identifies communities participating in the National Flood Insurance Program (NFIP) and suspended from the NFIP. These communities have applied to the program and have agreed to enact certain floodplain management measures. The communities' participation in the program authorizes the sale of flood insurance to owners of property located in the communities listed.

DATES: Effective Dates: The dates listed under the column headed Effective Date of Eligibility.

ADDRESSES: Flood insurance policies for property located in the communities listed can be obtained from any licensed property insurance agent or broker serving the eligible community, or from the NFIP at: (800) 638-6620.

FOR FURTHER INFORMATION CONTACT: Michael M. Grimm, Mitigation Division, 500 C Street, SW.; Room 412, Washington, DC 20472, (202) 646-2878.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or federally related financial assistance for acquisition or construction of buildings in the special flood hazard areas shown on the map.

The Administrator finds that delayed effective dates would be contrary to the public interest and that notice and public procedure under 5 U.S.C. 553(b) are impracticable and unnecessary.

National Environmental Policy Act. This rule is categorically excluded from the requirements of 44 CFR part 10, Environmental Considerations. No environmental impact assessment has been prepared.

Regulatory Flexibility Act. The Administrator certifies that this rule will not have a significant economic impact on a substantial number of small entities in accordance with the Regulatory Flexibility Act, 5 U. S. C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State | Location | Community No. | Effective date of eligibility | Current effective map date
New Eligibles: Emergency Program
Oklahoma | Geary, City of, Blaine County and Canadian County | 400381 | Oct. 28, 2004 | Oct. 29, 1976 FHBM.
Maine | Wales, Town of, Androscoggin County | 230439 | Nov. 10, 2004 | Feb. 21, 1975 FHBM.
Oklahoma | Paoli, Town of, Garvin County | 400317 | Dec. 2, 2004 | Nov. 5, 1976.
Kentucky | Fulton County, Unincorporated Areas | 210336 | Dec. 17, 2004 | Dec. 23, 1977.
New Eligibles: Regular Program
Georgia | McDuffie County, Unincorporated Areas** | 130357 | Oct. 1, 2004 | Oct. 1, 2004.
Texas | Bruceville-Eddy, City of, Falls County and McLennan County | 481302 | Oct. 4, 2004 | Jun. 18, 1980.
Nebraska | Palmyra, Village of, Otoe County | 310165 | .......do | Use Otoe County (CID 310462) Panel 160C, dated Aug. 4, 2004.
Do* | Davenport, Village of, Thayer County | 310267 | Oct. 14, 2004 | Sep. 30, 2004.
Texas | Elmendorf, City of, Bexar County | 480710 | Oct. 15, 2004 | Sep. 3, 1980.
Nebraska | Chester, Village of, Thayer County | 310261 | .......do | Sep. 30, 2004.
Do | Elba, Village of, Howard County | 481527 | Oct. 19, 2004 | Oct. 19, 2004.
Do | Byron, Village of, Thayer County | 310508 | Oct. 27, 2004 | Sep. 30, 2004.
Do | Bruning, Village of, Thayer County | 310253 | Oct. 28, 2004 | Do.
Do | Carleton, Village of, Thayer County | 310509 | .......do | Do.
Do | Alexandria, Village of, Thayer County | 310243 | Oct. 29, 2004 | Do.
Texas | Pattison, City of, Waller County | 481527 | ......do | Feb. 3, 1982.
Florida | Southwest Ranches, Town of, Broward County | 120691 | Nov. 1, 2004 | Use Broward County (CID 125093) FIRM panels 0280F and 0285F dated Aug. 18, 1992.
North Carolina | Elm City, Town of, Wilson County** | 370521 | Nov. 3, 2004 | Nov. 3, 2004.
Do | Lucama, Town of, Wilson County** | 370537 | .......do | Do.
Do | Black Creek, Town of, Wilson County** | 370549 | Nov. 4, 2004 | Do.
Alabama | Pinson, City of, Jefferson County | 010447 | Nov. 10, 2004 | Use Jefferson County (CID 010217) FIRM panels 0181E and 0182E dated Jan. 20,1999, and panel 0183F dated Jun. 16, 1999.
Missouri | St. Robert, City of, Pulaski County | 290662 | Nov. 30, 2004 | Use Pulaski County (CID 290826) FIRM Index panel INDO and panel 0090C dated Mar. 17, 2002, and panel 0095B dated Apr. 17, 1985.
Texas | New Berlin, City of, Guadalupe County | 481625 | Dec. 1, 2004 | Use Guadalupe County (CID 480266) FIRM panels 0205C, 0215C, and 0225C dated Nov. 20, 1998.
Florida | Paxton, Town of, Walton County | 120423 | Dec. 16, 2004 | Use Walton County (CID 120317) FIRM panel 0050F dated Mar. 7, 2000.
Nebraska | Nuckolls County, Unincorporated Areas** | 310461 | ......do | Dec. 16, 2004.
Reinstatements
Minnesota | New Hope, City of, Hennepin County | 270177 | Jul. 2, 1975, Emerg. Jan. 2, 1981, Reg. Sept. 3, 2004, Susp. December 1, 2004, Rein | Sept. 2, 2004.
Suspensions
Maine | Kenduskeag, Town of, Penobscot County | 230108 | Dec. 6, 2004 | Sep. 18, 1985.
Suspension Rescissions
Region IV
North Carolina | Camden County, Unincorporated Areas | 370042 | Oct. 5, 2004 Suspension Notice Rescinded | Oct. 5, 2004.
Do | Hertford, Town of, Perquimans County | 370188 | ......do | Do.
Do | Perquimans County, Unincorporated Areas | 370315 | ......do | Do.
Do | Winfall, Town of, Perquimans County | 370345 | ......do | Do.
Do | Nashville, Town of, Nash County | 370167 | Nov. 3, 2004 Suspension Notice Rescinded | Nov. 3, 2004.
Do | Rocky Mount, City of, Edgecombe County and Nash County | 370092 | ......do | Do.
Do | Tarboro, Town of, Edgecombe County | 370094 | ......do | Do.
Do | Whitakers, Town of, Edgecombe County and Nash County | 370095 | ......do | Do.
Alabama | Randolph County, Unincorporated Areas | 010182 | Dec. 2, 2004 Suspension Notice Rescinded | Dec. 2, 2004.
Do | Roanoke, City of, Randolph County | 010348 | ......do | Do.
Do | Wadley, Town of, Randolph County | 010183 | ......do | Do.
Do | Wedowee, Town of, Randolph County | 010401 | ......do | Do.
Region V
Ohio | Bentleyville, Village of, Cuyahoga County | 390682 | Dec. 16, 2004 Suspension Notice Rescinded | Dec. 16, 2004.
Do | McConnelsville, Village of, Morgan County | 390422 | ......do | Do.
Region VII
Nebraska | Dannebrog, Village of, Howard County | 310118 | Oct. 19, 2004 Suspension Notice Rescinded | Oct. 19, 2004.
Do | Howard County, Unincorporated Areas | 310446 | ......do | Do.
*......do and Do = ditto.
**Designates communities converted from Emergency Phase of participation to the Regular Phase of participation.
Code for reading fourth and fifth columns: Emerg.—Emergency; Reg.—Regular; Rein.—Reinstatement; Susp.—Suspension; With.—Withdrawn; NSFHA—Non Special Flood Hazard Area.

(Catalog of Federal Domestic Assistance No. 83.100, “Flood Insurance.”)

Dated: April 14, 2005.
David I. Maurstad,
Acting Director, Mitigation Division, Emergency Preparedness and Response Directorate.

[FR Doc. 05-8178 Filed 4-22-05; 8:45 am]

BILLING CODE 9110-12-P